ENVIRONMENTAL PROTECTION AGENCY

[ER-FRL-9013-6]

Environmental Impact Statements; Notice of Availability

Responsible Agency: Office of Federal Activities, General Information (202) 564-7146 or http://www.epa.gov/compliance/nepa/.

Weekly receipt of Environmental Impact Statements.

Filed 02/10/2014 Through 02/14/2014,

Pursuant to 40 CFR 1506.9.

Notice

Section 309(a) of the Clean Air Act requires that EPA make public its comments on EISs issued by other Federal agencies. EPA's comment letters on EISs are available at: http://www.epa.gov/compliance/nepa/eisdata.html.

EIS No. 20140039, Draft EIS, FERC, NY, Constitution Pipeline and Wright Interconnect Projects, Comment Period Ends: 04/07/2014, Contact: Kevin Bowman 202-502-6287

EIS No. 20140040, Draft Supplement, BLM, AK, Alpine Satellite Development Plan GMT1 Development Project, Comment Period Ends: 04/21/2014, Contact: Bridget Psarianos 907-271-4208

EIS No. 20140041, Draft EIS, NRC, MO, Generic—Renewal of Nuclear Plants, Supplement 51, Regarding Callaway Plant, Unit 1, Comment Period Ends: 04/07/2014, Contact: Carmen Fells 301-415-6337

EIS No. 20140042, Final EIS, BIA, MT, Proposed Strategies to Benefit Native Species by Reducing the Abundance of Lake Trout in Flathead Lake, Review Period Ends: 03/24/2014, Contact: Barry Hansen 406-883-2888

EIS No. 20140043, Draft EIS, AFS, UT, Energy Gateway South Transmission Project, Comment Period Ends: 05/22/2014, Contact: Kenton Call 435-865-3730

EIS No. 20140044, Draft EIS, USACE, WA, Skokomish River Ecosystem Restoration, Comment Period Ends: 04/14/2014, Contact: Nancy C. Gleason 206-764-6577

EIS No. 20140045, Draft EIS, BLM, WY, Energy Gateway South Transmission Project and Land-use Plan Amendments, Comment Period Ends: 05/22/2014, Contact: Tamara Gertsch 307-775-6115

Amended Notices

EIS No. 20130001, Draft EIS, BIA, CA, WITHDRAWN—Shu'Luuk Wind Project, Campo Indian Reservation, Lease Approval, San Diego County, CA, Comment Period Ends: 02/25/2013, Contact: Lenore Lamb 951-276-6625 ext. 254

Revision to FR Notice Published 01/11/2013; Officially Withdrawn by preparing agency.

EIS No. 20130340, Draft EIS, USFS, AZ, PROGRAMMATIC—Revision of the Coronado National Forest Land and Resource Management Plan, Comment Period Ends: 03/06/2014, Contact: Yolynda Begay 520-388-8370

Revision to FR Notice Published 11/22/2013; Extending Comment Period from 02/20/2014 to 03/06/2014.

EIS No. 20130365, Draft EIS, NMFS, CA, Bay Delta Conservation Plan, Comment Period Ends: 06/13/2014, Contact: Ryan Wulff 916-930-3733

Revision to the FR Notice Published 12/13/2013; Extending Comment Period from 4/14/2014 to 06/13/2014.

Dated: February 18, 2014.
Cliff Rader,
Director, NEPA Compliance Division, Office of Federal Activities.

[FR Doc. 2014-03726 Filed 2-20-14; 8:45 am]

BILLING CODE 6560-50-P